DEPARTMENT OF JUSTICE

Notice of Lodging of Consent Decree Pursuant to the Clean Air Act

Pursuant to 28 CFR 50.7, notice is hereby given that on May 2, 2005, a proposed Consent Decree in United States v. E.I. du Pont de Nemours, (“DuPont”) C.A. No. 3-05 0345 was lodged with the United States District Court for the Middle District of Tennessee.

In this action, the United States sought civil penalties and injunctive relief against E.I. du Pont de Nemours and Company (“DuPont”) for violations of the repair, testing, recordkeeping and reporting regulations for appliances which use ozone-depleting substances 40 CFR part 82, subpart F, §§ 82.152-82.166 (“Recycling and Emissions Reduction”) promulgated pursuant to Subchapter VI of the Clean Air Act, 42 U.S.C. 7671-7671q, (“Stratospheric Ozone Protection”) (“CAA”). The alleged violations occurred at DuPont's titanium dioxide manufacturing facility located in New Johnsonville, Tennessee.

The proposed Consent Decree provides for injunctive relief valued at $1.7 million, payment of $250,000 in civil penalties, and the performance of a Supplemental Environmental Project (“SEP”) valued at $1.2 million.

The Department of Justice will receive, for a period of thirty (30) days from the date of this publication, comments relating to the proposed Consent Decree. Comments should be addressed to the Assistant Attorney General, Environment and Natural Resourses Division, U.S. Department of Justice, P.O. Box 611, Washington, DC 20044-7611; and refer to United States v. E.I. du Pont de Nemours, (“DuPont”) DOJ Ref. #90-5-2-1-08054.

The proposed settlement agreement may be examined at U.S. Environmental Protection Agency, Region 4, 61 Forsyth Street, SW., Atlanta, GA 30303—Attention Leif Palmer. During the comment period, the Consent Decree, may also be examined on the following Department of Justice Web site, http://www.usdoj.gov/enrd/open.html.

A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $9.50 (25 cents per page reproduction cost for 38 pages) payable to the U.S. Treasury.

Ellen M. Mahan,
Assistant Section Chief Environmental Enforcement Section.

[FR Doc. 05-9437 Filed 5-11-05; 8:45 am]

BILLING CODE 4410-15-M